COMMISSION ON CIVIL RIGHTS

Agenda and Notice of Public Meeting of the Wisconsin Advisory Committee

Notice is hereby given, pursuant to the provisions of the rules and regulations of the U.S. Commission on Civil Rights (Commission), and the Federal Advisory Committee Act (FACA), that a briefing meeting of the Wisconsin Advisory Committee to the Commission will convene at 9 a.m. and adjourn at 12 p.m. on December 11, 2008, at the Milwaukee Athletic Club, 758 N. Broadway, Milwaukee, WI 53202. The purpose of the meeting is to have an orientation and ethics training for new SAC members as well as a briefing on fair housing in Wisconsin.

Members of the public are entitled to submit written comments; the comments must be received in the regional office by January 10, 2009. The address is U.S. Commission on Civil Rights, Midwestern Regional Office, 55 W. Monroe Street, Suite 410, Chicago, IL 60603. Persons wishing to e-mail their comments, or to present their comments verbally at the meeting, or who desire additional information should contact Carolyn Allen, Administrative Assistant, Midwestern Regional Office, or by e-mail: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, http://www.usccr.gov, or to contact the Midwestern Regional Office at the above e-mail or street address.

The meeting will be conducted pursuant to the provisions of the rules and regulations of the Commission and FACA.

Dated in Washington, DC, November 17, 2008.
Christopher Byrnes,
Chief, Regional Programs Coordination Unit.

[FR Doc. E8-27670 Filed 11-20-08; 8:45 am]

BILLING CODE 6335-01-P